DEPARTMENT OF DEFENSE

Department of the Army; Corps of Engineers

Notice of Intent To Prepare an Environmental Impact Statement and Conduct a Public Scoping Meeting for the Bluestone Hydropower Project, Hinton, Summers County, WV

AGENCY: Department of the Army, U.S. Army Corps of Engineers, DoD.

ACTION: Notice of intent.

SUMMARY: Pursuant to the National Environmental Policy Act of 1969 (NEPA), the U.S. Army Corps of Engineers, DoD, Huntington District will prepare an Environmental Impact Statement (EIS) to evaluate potential impacts to the natural, physical, and human environment as a result of the proposed installation of hydropower generation facilities at Bluestone Dam, Hinton, Summers County, WV (Hydropower Project). The proposed hydropower project would utilize three of the six existing penstocks which were part of the original construction of the dam. The proposed project would also involve the discharge of dredged and fill material into waters of the United States (U.S.) and would involve work in the New River, a navigable water of the U.S. Therefore, the subject proposal would require a Department of the Army (DA) permit pursuant to section 404 of the Clean Water Act (Section 404) and Section 10 of the Rivers and Harbors Act of 1899 (Section 10). This EIS will document the agency's evaluation of all reasonable alternatives as they affect stability of the dam and control the release of water from Bluestone Dam, and will document analysis of impacts to Waters of the U.S. sufficient to accommodate the NEPA process for permitting under section 10 and section 404.

DATES: A public scoping meeting is announced for October 2, 2006, from 11 a.m.-8 p.m. at Hinton Technology Center, 301 Summers Street, Hinton, Summers County, WV.

ADDRESSES: Send written comments and suggestions concerning this proposed project to John Preston, PM-PD-R, U.S. Army Corps of Engineers, Huntington District, 502 Eighth Street, Huntington, WV, 25701-2070. Telephone: (304) 399-5870. Electronic mail: John.S.Preston@usace.army.mil. Requests to be placed on the mailing list should also be sent to this address.

FOR FURTHER INFORMATION CONTACT: To obtain additional information about the proposed project, contact Kenneth Halstead EC-WH, U.S. Army Corps of Engineers, Huntington District, 502 Eighth Street, Huntington, WV, 25701-2070. Telephone: (304) 399-5811. Electronic mail: Kenneth.C.Halstead@usace.army.mil.

SUPPLEMENTARY INFORMATION: 1. Public Participation: a. The Corps of Engineers will conduct a public scoping meeting (open house format) to gain input from interested agencies, organizations, and the general public concerning the content of the EIS, issues and impacts to be addressed in the EIS, and alternatives that should be analyzed. The meeting is scheduled for (see DATES).

b. The Corps invites full public participation to promote open communication and better decision-making. All persons and organizations that have an interest in potential effects of hydropower development and electric power generation at Bluestone Dam and the affected environment are urged to participate in this NEPA environmental analysis process. Assistance will be provided upon request to anyone having difficulty.

c. Public comments are welcomed anytime throughout the NEPA process. Formal opportunities for public participation include: (1) Public meetings to be held near the community of Hinton; (2) Anytime during the NEPA process via mail, telephone or e-mail: (3) During Review and Comment on the Draft EIS (DEIS)—approximately late Summer 2007; and (4) Review of the Final EIS (FEIS)—Winter 2007/2008. Schedules and locations will be announced in local news media. Interested parties may also request to be included on the mailing list for public distribution of meeting announcements and documents (see ADDRESSES).

d. To ensure that all issues related to the proposed project are approximately addressed, the Corps invites input from interested agencies, local and regional stakeholders and the general public to assist in identifying areas of concern, issues and impacts to be addressed in the EIS, and the alternatives that should be analyzed. Scoping for the DEIS will continue to build upon the knowledge and information developed during the more than 50 years of Corps of Engineer operation of the Bluestone Dam.

2. Background: a. The Bluestone Lake project is located in southern West Virginia, with the uppermost reaches of the lake extending into Virginia. Bluestone Dam is on the New River at Hinton, WV. Authorized in the 1935 and 1938 Flood Control Acts (FCAs) for flood control and hydropower, the Bluestone Lake project was completed in 1949. As the first of four authorized reservoirs in the Kanawha River Basin, Bluestone is operated for flood control. During construction hydropower development at Bluestone was delayed until other basin flood control projects could be constructed, with penstocks incorporated to permit future power facilities installation. Two of the three planned projects (Sutton and Summerville Lakes) have been constructed and the third was de-authorized. The Bluestone project was designed to operate at a normal summer pool elevation of 1490 feet and maximum flood control pool elevation of 1520 feet; 40 percent of the active storage was planned for flood control and almost 60 percent for hydropower. Current operations maintain the summer pool at 1410, with maximum flood control pool at 1520 and 97 percent of the active storage for flood control. The 1944 FCA authorized the Secretary of the Army to permit recreation development at water resources projects, and during the 1950s and in 1970 project operations at Bluestone were changed to provide a conservation pool that allowed lake recreation. Section 6 of the 1988 Water Resources Development Act added recreation and downstream recreation as project purposes at Bluestone Lake.

b. Section 547 of Water Resources Development Act of 2000 (Pub. L. 106-541) authorized the Tri-Cities Power Authority to construct hydroelectric generating facilities at the Bluestone dam. “Tri-Cities Power Authority ” (TCPA) refers to the entity established by the City of Hinton, WV, the City of White Sulphur Springs, WV, and the City of Philippi, WV, pursuant to a document entitled “Second Amended and Restated Intergovernmental Agreement” approved by the Attorney General of West Virginia on February 14, 2002. Further, this act directs the Secretary of the Army to enter into a binding agreement with the Secretary of Energy and TCPA to accomplish construction of the project.

c. Section 122 of the Energy and Water Development Appropriations Act, 2006 (Pub. L. 109-103) amended the aforementioned legislation. These amendments include the designation of TCPA as the owner and operator of said hydropower project. Further, section 122 removed hydroelectric power as an authorized project purpose “so long as Tri-Cities Power Authority continues to exercise its responsibilities as he builder, owner, and operator of the hydropower facilities at Bluestone Dam.” In addition, this legislation focused the approval that the Secretary of the Army must exercise for the proposed project, which is “to review the design and construction activities for all features of the hydroelectric project that pertain to and affect stability of the dam and control the release of water from Bluestone Dam to ensure that the quality of construction of those features meets all standards established for similar facilities constructed by the Secretary.”

d. Reasonable alternatives for hydropower development are limited to those which will provide profitable power generation, meet established design criteria with respect to stability of the dam, do not significantly affect other Bluestone Lake project purposes as related to flow, and are environmentally acceptable. Only one physical hydropower facility design has been found feasible by TCPA. No changes to pool elevations are proposed.

e. The proposed hydropower facility would utilize up to 9000 cubic feet per second (cfs) of flow. Under current operating procedures for the dam, a minimum discharge of 610 cfs is maintained. The alternatives to be considered in the EIS are those which evaluate various discharges through the stilling basin of the dam, including providing all flow up to 9000 cfs through the hydropower facility. In addition, the no-action alternative will be evaluated. As necessary, any reasonable alternatives that may become apparent as the evaluation process will be addressed.

3. Cooperating Agencies: a. At this time, no other federal, state, or local agencies are expected to be cooperating agencies in preparation of this EIS. However, numerous federal and state agencies, including the U.S. Environmental Protection Agency, Region III, U.S. Fish and Wildlife Service, Elkins West Virginia Field Office, Department of Interior National Park Service, West Virginia Department of Environmental Protection, and the West Virginia Division of Wildlife, are expected to be involved in this process.

4. Additional Information and Review: a. Compliance with other federal and state requirements that will be addressed in the EIS include, but will not be limited to, State Water Quality Certification under section 401 of the Clean Water Act, West Virginia Pollution Discharge Elimination System section 402 permit, section 7 of the Endangered Species Act, the Fish and Wildlife Coordination Act and section 106 of the National Historic Preservation Act.

5. Availability of the Draft: a. The draft EIS is projected to be available late Summer 2007. A formal public hearing will be conducted following release of the Draft EIS.

Brenda S. Bowen,
Army Federal Register Liaison Officer.

[FR Doc. 06-8126 Filed 9-22-06; 8:45 am]

BILLING CODE 3710-GM-M